CHEMICAL SAFETY AND HAZARD INVESTIGATION BOARD

Sunshine Act Meeting

TIME AND DATE: October 21, 2015, 1 p.m. EDT.

PLACE: Palomar Hotel, 2121 P St. NW., Phillips Ballroom, Washington, DC 20037.

STATUS: Open to the public.

MATTERS TO BE CONSIDERED: The Chemical Safety and Hazard Investigation Board (CSB) will convene a public meeting on October 21, 2015, starting at 1 p.m. EDT in Washington, DC at the Palomar Hotel, 2121 P St. NW., in the Phillips Ballroom. The Board will discuss the final report and recommendations on the Caribbean Petroleum incident. The Board may then vote on the Caribbean Petroleum report. The Board will discuss the status of several current CSB investigations, including ExxonMobil Torrance, West Fertilizer, Freedom Industries, DuPont LaPorte, Macondo, and Williams Olefins. The Board will also discuss the agency action plan for FY 15 in addition to the newly confirmed Chairperson's overview of her first 60 days. An opportunity for public comment will be provided.

Additional Information

The meeting is free and open to the public. If you require a translator or interpreter, please notify the individual listed below as the “Contact Person for Further Information,” at least three business days prior to the meeting.

This meeting will be webcast for those who cannot attend in person. Please visit www.csb.gov for access to the live webcast.

The CSB is an independent federal agency charged with investigating accidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Public Comment

The time provided for public statements will depend upon the number of people who wish to speak. Speakers should assume that their presentations will be limited to three minutes or less, but commenters may submit written statements for the record.

Contact Person for Further Information

Shauna Lawhorne, Public Affairs Specialist, public@csb.gov or (202) 384-2839. Further information about this public meeting can be found on the CSB Web site at: www.csb.gov.

Dated: October 9, 2015.
Kara Wenzel,
Acting General Counsel, Chemical Safety and Hazard Investigation Board.

[FR Doc. 2015-26322 Filed 10-13-15; 11:15 am]

BILLING CODE 6350-01-P